RAILROAD RETIREMENT BOARD

Agency Forms Submitted for OMB Review

SUMMARY: In accordance with the Paperwork Reduction Act of 1995 (44 U.S.C. Chapter 35), the Railroad Retirement Board (RRB) has submitted the following proposal(s) for the collection of information to the Office of Management and Budget for review and approval.

Summary of Proposal(s):

Collection title: Evidence of Marital Relationship—Living with Requirements.

Form(s) submitted: G-124, G-124a, G-237, G-238, and G-238a.

OMB Number: 3220-0021.

Expiration date of current OMB clearance: 1/31/2003.

Type of request: Extension of a currently approved collection.

Respondents: Individuals or households, state, local or tribal government.

Estimated annual number of respondents: 1,100.

Total annual responses: 1,100.

Total annual reporting hours: 196.

Collection description: Under the RRA, to obtain a benefit as a spouse of an employee annuitant or as the widow(er) of the deceased employee, applicants must submit information to be used in determining if they meet the marriage requirements for such benefits. The collection obtains information supporting claimed common-law marriage, termination of previous marriages and residency requirements.

FOR FURTHER INFORMATION CONTACT: Copies of the forms and supporting documents can be obtained from Chuck Mierzwa, the agency clearance officer (312-751-3363).

Comments regarding the information collection should be addressed to Ronald J. Hodapp, Railroad Retirement Board, 844 North Rush Street, Chicago, Illinois, 60611-2092 and to the OMB Desk Officer for the RRB, at the Office of Management and Budget, Room 10230, New Executive Office Building, Washington, DC 20503.

Chuck Mierzwa,
Clearance Officer.

[FR Doc. 02-27598 Filed 10-29-02; 8:45 am]

BILLING CODE 7905-01-M